DEPARTMENT OF ENERGY

Federal Energy Regulatory Commission

[Project No. 516-379]

South Carolina Gas & Electric Company; Notice of Availability of Draft Environmental Assessment

May 13, 2004.

In accordance with the National Environmental Policy Act of 1969 and the Federal Energy Regulatory Commission's (Commission) regulations, 18 CFR part 380 (Order No. 486, 52 FR 47897), the Office of Energy Projects has reviewed South Carolina Gas & Electric Company's application requesting authorization to permit Boulevard Partners, Inc. use of Saluda Project lands and waters. The permit would authorize the installation of a concrete boat ramp and a multi-boat dock facility capable of berthing 32 boats. The proposed work would take place at a residential community to be known as Lakeside at Ballentine located on Lake Murry, Ballentine, Richland County, South Carolina. A Draft Environmental Assessment (DEA) has been prepared for the proposal.

The DEA contains the staff's analysis of the potential environmental impacts of the project and concludes that approving the request would not constitute a major Federal action significantly affecting the quality of the human environment.

A copy of the DEA is available for review at the Commission in the Public Reference Room or may be viewed on the Commission's Web site at http://www.ferc.gov using the “eLibrary” link. Enter the docket number P-516 to access the document. For assistance, contact FERC Online Support at FERCOnlineSupport@ferc.gov or toll-free at (866) 208-3676, or for TTY, (202) 502-8659.

You may also register online at http://www.ferc.gov/docs-filing/esubscription.asp to be notified via email of new filings and issuances related to this or other pending projects. For assistance, contact FERC Online Support.

Any comments should be filed within 30 days from the date of this notice and should be addressed to Magalie R. Salas, Secretary, Federal Energy Regulatory Commission, 888 First Street, NE., Washington, DC 20426. Please affix Project No. P-516-379 to all comments. Comments may be filed electronically via the Internet in lieu of paper. The Commission strongly encourages electronic filings. See 18 CFR 385.2001(a)(1)(iii) and the instructions on the Commission's Web site (http://www.ferc.gov) under the “e-Filing” link. For further information, contact Jean Potvin at (202) 502-8928.

Magalie R. Salas,
Secretary.

[FR Doc. E4-1191 Filed 5-20-04;8:45 am]

BILLING CODE 6717-01-P